FEDERAL RESERVE SYSTEM

12 CFR Part 222

[Regulation V; Docket No. R-1316]

FEDERAL TRADE COMMISSION

16 CFR Part 698

RIN 3084-AA94

Fair Credit Reporting Risk-Based Pricing Regulations; Correction

AGENCIES: Board of Governors of the Federal Reserve System (Board) and Federal Trade Commission (Commission).

ACTION: Notice of proposed rulemaking; correction.

SUMMARY: This document contains corrections to proposed rules published in the Federal Register on May 19, 2008 (73 FR 28966) implementing the risk-based pricing provisions in section 311 of the Fair and Accurate Credit Transactions Act of 2003 (FACT Act).

FOR FURTHER INFORMATION CONTACT: Board: Amy E. Burke, Senior Attorney, Division of Consumer and Community Affairs, (202) 452-3667 or (202) 452-2412; or Andrea K. Mitchell, Senior Attorney, Legal Division, (202) 452-2458, Board of Governors of the Federal Reserve System, 20th and C Streets, NW., Washington, DC 20551. For users of a Telecommunications Device for the Deaf (TDD) only, contact (202) 263-4869.

Commission: Kellie Cosgrove Riley, Senior Attorney, or Stacey Brandenburg, Attorney, Division of Privacy and Identity Protection, Bureau of Consumer Protection, (202) 326-2252, Federal Trade Commission, 600 Pennsylvania Avenue, NW., Washington, DC 20580.

SUPPLEMENTARY INFORMATION:

Background

On May 19, 2008, the Board and the Commission published in the Federal Register proposed rules (73 FR 28966) to implement the risk-based pricing provisions in section 311 of the FACT Act. The proposal includes model forms that creditors can use to comply with the requirements of the proposed rules.

Need for Correction

Due to a technical error, the second page of Model form H-4 of the Board's proposal and Model form B-4 of the Commission's proposal, as published, erroneously included a row entitled “Key factors that adversely affected your credit score.” As discussed in the preamble to the proposed rules, the notice provided in connection with the credit score disclosure exception for non-mortgage credit is not required to include the key factors that affected the credit score (73 FR 28983). This document corrects this error by amending Model forms H-4 and B-4 to delete this row.

Correction of Publication

The proposed rule, FR Doc. E8-10640, published in the Federal Register on May 19, 2008 (73 FR 28966) is corrected as follows:

PART 222—[CORRECTED]

1. On pages 29004-29005, Model form H-4 is corrected to read as follows:

BILLING CODE 6210-01-P

PART 698—[CORRECTED]

2. On pages 29018-29019, Model form B-4 is corrected to read as follows:

By order of the Secretary of the Board acting under delegated authority, May 22, 2008.
Robert deV. Frierson,
Deputy Secretary of the Board, Federal Reserve System.
By direction of the Commission.
Donald S. Clark,
Secretary, Federal Trade Commission.

[FR Doc. E8-11961 Filed 5-28-08; 8:45 am]

BILLING CODE 6210-01-P, 6750-01-C